DEPARTMENT OF AGRICULTURE

Rural Utilities Service

East Kentucky Power Cooperative: Notice of Finding of No Significant Impact

AGENCY: Rural Utilities Service, USDA.

ACTION: Notice of finding of no significant impact.

SUMMARY: The Rural Utilities Service (RUS), an agency delivering the United States Department of Agriculture (USDA) Rural Development Utilities Programs, hereinafter referred to as Rural Development, has made a finding of no significant impact (FONSI) with respect to a request for possible financing assistance to East Kentucky Power Cooperative (EKPC) for the construction of two new Smith Station combustion turbine electric generating units (CTs), two new electric switching stations, and the 36-mile, Smith-West Garrard 345 kilovolt (kV) electric transmission line located in Clark, Madison, and Garrard Counties, Kentucky (Proposal).

ADDRESSES: The Environmental Assessment (EA) and FONSI are available for public review at USDA Rural Development, 1400 Independence Avenue, SW., Washington, DC 20250-1571; and at EKPC's headquarters office located at 4775 Lexington Road, Winchester, Kentucky 40391. To obtain copies of the EA, or for further information, contact: Stephanie Strength, Environmental Protection Specialist, USDA, Rural Development, Utilities Programs, 1400 Independence Avenue, SW., Stop 1571 Washington, DC 20250-1571, Telephone: (202) 720-0468 or e-mail: stephanie.strength@wdc.usda.gov.

SUPPLEMENTARY INFORMATION: EKPC proposes to construct 2 new CTs at EKPC's existing J. K. Smith Electric Generating Station in southern Clark County, Kentucky. The proposed CTs would be fueled by natural gas and would each have a net electrical output of between 82 and 98 megawatts. The proposed new units are needed to provide additional electric generating capacity that would allow EKPC to meet its projected electrical peaking demand for 2009-2011. The Proposal also includes the construction of 2 new electric switching stations, 1 at its existing J. K. Smith Generating Station (utilizing approximately 8 acres) and 1 in western Garrard County, Kentucky (disturbing between 5 and 10 acres), and a 36-mile, 345-kV electric transmission line (on a 150-foot right-of-way) that would extend through Clark, Madison, and Garrard Counties, Kentucky. The proposed new transmission facilities are needed to provide an outlet for the additional electric power that would be generated at the J. K. Smith Generating Station as a result of the installation of the proposed new CTs. The new transmission line would be supported by vertical H-frame steel pole structures that would range in height from 90 to 130 feet above ground. The construction of the Proposal is tentatively scheduled to begin in the fall of 2007 with estimated construction duration of 2 years.

Alternatives considered by Rural Development and EKPC include: (a) No action, (b) alternative generation technology, (c) alternative transmission improvements, (d) alternative sites, and (e) alternate transmission line corridors. The alternatives are discussed in the Smith Station CT Units 9 & 10 and the Smith-West Garrard Transmission Line Project Environmental Report (ER).

Rural Development has accepted the ER as its EA for the proposed project. Rural Development held an agency meeting and a public scoping meeting in an open house format on Tuesday, July 11, 2006 in Richmond, Kentucky. Approximately 22 people attended the meeting. EKPC held 2 additional public open houses, and, as a result of the 3 meetings, 117 comments were received. The comments were subsequently addressed in the EA. The notice of availability of the EA for public review was published in the Federal Register Vol. 72, No. 122, Tuesday, June 26, 2007, and was also published in the local papers Lexington Herald Leader, Lexington, Kentucky; Richmond Register, Richmond, KY; Garrard Central Record, Lancaster, KY; and the Winchester Sun, Winchester, Kentucky. The EA was distributed for public and agency review. The 30-day comment period on the EA ended July 26, 2007. Comments were received from 2 parties and the concerns were addressed. Rural Development has determined that the Proposal will have no significant impact to water quality, wetlands, the 100-year floodplain, land use, aesthetics, transportation, or human health and safety.

The Proposal will have an adverse effect on 1 historic property eligible for listing on the National Register of Historic Places and 1 currently listed historic property. Mitigation measures for the Proposal are stipulated in a Memorandum of Agreement signed on July 23, 2007 by Rural Development, the Kentucky State Historic Preservation Officer, and EKPC.

Rural Development has also concluded that the Proposal is not likely to affect federally listed threatened and endangered species or designated critical habitat. The Proposal will not disproportionately affect minority and/or low-income populations. No other potential significant impacts resulting from the Proposal have been identified. Therefore, Rural Development has determined that this finding of no significant impact fulfills its obligations under the National Environmental Policy Act, as amended (42 U.S.C. 4321 et seq.), the Council on Environmental Quality Regulations (40 CFR 1500-1508), and USDA Rural Development's Environmental Policies and Procedures (7 CFR Part 1794). Since Rural Development's Federal action would not result in significant impacts to the quality of the human environment, an environmental impact statement will not be prepared for its action related to the Proposal.

Dated: September 13, 2007.
James R. Newby,
Assistant Administrator, Electric Programs, Rural Utilities Service.

[FR Doc. E7-18385 Filed 9-18-07; 8:45 am]

BILLING CODE 3410-15-P